DEPARTMENT OF ENERGY

Federal Energy Regulatory Commission

Combined Notice of Filings

Take notice that the Commission has received the following Natural Gas Pipeline Rate and Refund Report filings:

Filings Instituting Proceedings

Docket Numbers: RP10-837-000.

Applicants: Dominion Energy Transmission, Inc.

Description: Submits tariff filing per: DETI-Operational Gas Sales Report effective N/A under RP10-837.

Filed Date: 06/28/2019.

Accession Number: 20190628-5136.

Comment Date: 5 p.m. ET 7/10/19.

Docket Numbers: RP10-900-000.

Applicants: Dominion Energy Transmission, Inc.

Description: Submits tariff filing per: DETI-Operational Gas Sales Report—2019 to be effective N/A under RP10-837.

Filed Date: 06/28/2019.

Accession Number: 20190628-5137.

Comment Date: 5 p.m. ET 7/10/19.

Docket Numbers: RP19-1341-000.

Applicants: Big Sandy Pipeline, LLC.

Description: § 4(d) Rate Filing: Big Sandy EPC 2019 to be effective 8/1/2019.

Filed Date: 6/28/19.

Accession Number: 20190628-5091.

Comments Due: 5 p.m. ET 7/10/19.

Docket Numbers: RP19-1342-000.

Applicants: Texas Eastern Transmission, LP.

Description: Compliance filing TETLP OFO July 2019 Penalty Disbursement Report to be effective N/A.

Filed Date: 6/28/19.

Accession Number: 20190628-5093.

Comments Due: 5 p.m. ET 7/10/19.

Docket Numbers: RP19-1343-000.

Applicants: El Paso Natural Gas Company, L.L.C.

Description: § 4(d) Rate Filing: Negotiated Rate Agreement Update (Conoco July 19) to be effective 7/1/2019.

Filed Date: 6/28/19.

Accession Number: 20190628-5133.

Comments Due: 5 p.m. ET 7/10/19.

Docket Numbers: RP19-1344-000.

Applicants: El Paso Natural Gas Company, L.L.C.

Description: § 4(d) Rate Filing: Negotiated Rate Agreement Update (APS July 2019) to be effective 7/1/2019.

Filed Date: 6/28/19.

Accession Number: 20190628-5135.

Comments Due: 5 p.m. ET 7/10/19.

Docket Numbers: RP19-1345-000.

Applicants: Texas Eastern Transmission, LP.

Description: § 4(d) Rate Filing: Negotiated Rate—Gulfport to Eco-Energy 8958321 to be effective 7/1/2019.

Filed Date: 6/28/19.

Accession Number: 20190628-5139.

Comments Due: 5 p.m. ET 7/10/19.

Docket Numbers: RP19-1346-000.

Applicants: Delphi Energy Corp., Outlier Resources Ltd.

Description: Joint Petition for Temporary Waiver of Capacity Release Regulations and Policies, et al. of Delphi Energy Corp., et al. under RP19-1346.

Filed Date: 6/28/19.

Accession Number: 20190628-5144.

Comments Due: 5 p.m. ET 7/8/19.

Docket Numbers: RP19-1347-000.

Applicants: Transcontinental Gas Pipe Line Company,

Description: § 4(d) Rate Filing: Negotiated Rates—Cherokee AGL—Replacement Shippers—Jul 2019 to be effective 7/1/2019.

Filed Date: 6/28/19.

Accession Number: 20190628-5204.

Comments Due: 5 p.m. ET 7/10/19.

Docket Numbers: RP19-1348-000.

Applicants: NEXUS Gas Transmission, LLC.

Description: § 4(d) Rate Filing: Negotiated Rates—Columbia Gas 860005 July 1 releases to be effective 7/1/2019.

Filed Date: 6/28/19.

Accession Number: 20190628-5220.

Comments Due: 5 p.m. ET 7/10/19.

Docket Numbers: RP19-1349-000.

Applicants: Young Gas Storage Company, Ltd.

Description: Compliance filing Update to Initial Base Settlement Rates and Update to ADWQ Curve Compliance to be effective 7/1/2019.

Filed Date: 6/28/19.

Accession Number: 20190628-5222.

Comments Due: 5 p.m. ET 7/10/19.

Docket Numbers: RP19-1350-000.

Applicants: Texas Eastern Transmission, LP.

Description: § 4(d) Rate Filing: TETLP EPC AUG 2019 FILING to be effective 8/1/2019.

Filed Date: 6/28/19.

Accession Number: 20190628-5248.

Comments Due: 5 p.m. ET 7/10/19.

Docket Numbers: RP19-1351-000.

Applicants: Northern Natural Gas Company.

Description: § 4(d) Rate Filing: 20190628 Negotiated Rate to be effective 7/1/2019.

Filed Date: 6/28/19.

Accession Number: 20190628-5260.

Comments Due: 5 p.m. ET 7/10/19.

Docket Numbers: RP19-1352-000.

Applicants: Tennessee Gas Pipeline Company, L.L.C.

Description: § 4(d) Rate Filing: Volume No. 2- Castleton Commodities Merchant Trading L.P. SP348168 to be effective 5/1/2019.

Filed Date: 6/28/19.

Accession Number: 20190628-5264.

Comments Due: 5 p.m. ET 7/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2019.
Nathaniel J. Davis, Sr.,
Deputy Secretary.

[FR Doc. 2019-14641 Filed 7-9-19; 8:45 am]

BILLING CODE 6717-01-P